ENVIRONMENTAL PROTECTION AGENCY

Local Government Advisory Committee (LGAC): Notice of Charter Renewal and Request for Member Nominations

AGENCY: Environmental Protection Agency (EPA).

ACTION: Notice.

SUMMARY: Notice is hereby given that the Environmental Protection Agency (EPA) has determined that, in accordance with the provisions of the Federal Advisory Committee Act (FACA), 5 U.S.C. 10, the Local Government Advisory Committee (LGAC)is in the public interest and supports the EPA in performing its duties and responsibilities under federal environmental statutes. Accordingly, the LGAC's charter will be renewed for an additional two-year period. The LGAC is an independent, policy-oriented advisory committee of elected and appointed government officials. The Committee provides policy advice and recommendations to the EPA Administrator to assist the agency in ensuring that its regulations, policies, guidance, and technical assistance both support and improve the capacity of local governments to implement and carry out programs. With the renewal of its charter, the LGAC is requesting nominations for membership to its Small Communities Advisory Subcommittee. More information is detailed below. The renewed LGAC charter can be found at https://www.epa.gov/ocir/local-government-advisory-committee-lgac. The LGAC is chartered under the Federal Advisory Committee Act (FACA), Public Law 92-463, to advise the EPA Administrator on environmental issues impacting local governments. In addition, EPA invites nominations from a range of qualified candidates to be considered for appointment to The Small Communities Advisory Subcommittee (SCAS), a standing subcommittee of the LGAC, which was established to advise the Administrator on environmental issues of concern to the residents of smaller communities. Qualified nominees for the SCAS must hold elected positions with local, tribal, state, or territorial governments, or serve in a full-time government position appointed by an elected official. For more information, including recent meeting summaries and recommendations, visit: https://www.epa.gov/ocir/local-government-advisory-committee-lgac.

DATES: To be considered for 2026 appointments, nominations should be submitted by January 15, 2026.

How to Apply: Applications for consideration for the SCAS must be submitted electronically to LGAC@epa.gov with a subject heading of SCAS 2026 NOMINATION.

FOR FURTHER INFORMATION CONTACT: Edlynzia Barnes, the SCAS Designated Federal Officer at LGAC@epa.gov.

SUPPLEMENTARY INFORMATION:

Qualifications: Appointed members to the SCAS will advise on the Administrator's Powering the Great American Comeback Initiative, contributing recommendations to EPA programs to align with the Initiative's Five Pillars:

• Pillar 1: Clean Air, Land, and Water for Every American,

• Pillar 2: Restore American Energy Dominance,

• Pillar 3: Permitting Reform, Cooperative Federalism, and Cross-Agency Partnership,

• Pillar 4: Make the United States the Artificial Intelligence Capital of the World, and

• Pillar 5: Protecting and Bringing Back American Auto Jobs

Viable candidates must be current elected officials representing local, state, tribal, or territorial governments. Officials working full-time for a local, state, tribal, or territorial government who have been appointed directly by an elected official will also be considered. Preference will be given to qualified candidates who demonstrate experience developing and implementing environmental programs consistent with the five Pillars listed above. Additional criteria to be considered may include experience with multi-sector partnerships; coalition-building; and involvement and leadership in national, state or regional intergovernmental associations.

Time Commitment: New members are appointed for a minimum 1-year term and are eligible for reappointment to serve for a total of up to 6 years. In 2026, the SCAS plans to hold three to four public meetings, to be held either virtually or in-person with online participation options.

In addition to public meetings, workgroups will be created to address the five Pillars noted above, as well as any emerging issues. Members will be encouraged to serve on one or more workgroups, where they will be asked to share their experiences working on an issue, recommend experts on an issue for the Subcommittee to consult with, debate the nuances of policy implementation, and review written recommendations before they are shared with the full Subcommittee. In total, applicants should plan to spend an average of three two hours per month on Subcommittee work. While EPA is unable to provide compensation for services, official Committee travel and related expenses (lodging, etc.) will be fully reimbursed.

Nominations: Nominations must be submitted in electronic format. To be considered, all nominations should submit the following materials via email to LGAC@epa.gov.

• Current contact information for the applicant/nominee, including name, organization (and position within that organization), current work address, email address, and daytime telephone number,

• Brief statement describing the nominee's interest in serving on the SCAS,

• Resume and/or short biography (no more than 2 pages) describing professional, educational, and other pertinent qualifications of the nominee, including a list of relevant activities as well as any current or previous service on advisory committees; and,

• Any letter(s) of recommendation from a third party (or parties) supporting the nomination. Letter(s) should describe how the nominee's experience and knowledge will bring value to the work of the SCAS.

December 29, 2025.
Julian Bowles,
Director of Intergovernmental Relations, Office of Congressional and Intergovernmental Relations.

[FR Doc. 2025-24168 Filed 12-31-25; 8:45 am]

BILLING CODE 6560-50-P